DEPARTMENT OF THE INTERIOR

National Park Service

[NPS-WASO-NAGPRA-NPS0022622; PPWOCRADN0-PCU00RP14.R50000]

Notice of Inventory Completion: U.S. Department of Defense, Defense Health Agency, National Museum of Health and Medicine, Silver Spring, MD

AGENCY: National Park Service, Interior.

ACTION: Notice.

SUMMARY: The U.S. Department of Defense, Defense Health Agency, National Museum of Health and Medicine has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the National Museum of Health and Medicine. If no additional requestors come forward, transfer of control of the human remains to the Indian tribes or Native Hawaiian organizations stated in this notice may proceed.

DATES: Representatives of any Indian tribe or Native Hawaiian organization not identified in this notice that wish to request transfer of control of these human remains should submit a written request with information in support of the request to the National Museum of Health and Medicine at the address in this notice by February 13, 2017.

ADDRESSES: Mr. Brian F. Spatola, Curator of Anatomical Division, National Museum of Health and Medicine, U.S. Army Garrison Forest Glen, 2500 Linden Lane, Silver Spring, MD 20910, telephone (301) 319-3353, email brian.f.spatola.civ@mail.mil.

SUPPLEMENTARY INFORMATION: Notice is here given in accordance with the Native American Graves Protection and Repatriation Act (NAGPRA), 25 U.S.C. 3003, of the completion of an inventory of human remains under the control of the National Museum of Health and Medicine, Silver Spring, MD. The human remains were removed from Marion County, TN, and Limestone County, AL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the National Museum of Health and Medicine professional staff in consultation with representatives of the Cherokee Nation, Eastern Band of Cherokee Indians, The Chickasaw Nation, and United Keetoowah Band of Cherokee Indians in Oklahoma.

History and Description of the Remains

In 1914, human remains representing, at minimum, one individual were removed from Bennett Place (site 40M17) in Marion County, TN. Age and sex could not be identified. Artifacts were present at the time of excavation, but were not retained with the human remains. The human remains were donated to the Army Medical Museum (today the National Museum of Health and Medicine) by Clarence B. Moore in December of 1914. No known individuals were identified. No associated funerary objects are present.

On an unknown date, human remains representing, at minimum, one individual were removed from a site at the confluence of the Sequatchie and Tennessee Rivers in Marion County, TN. The human remains consist of the cranium and mandible of an adult female. The human remains were purchased by the Army Medical Museum (National Museum of Health and Medicine) from C.H. Ward Company, Rochester, NY, in 1915. No known individuals were identified. No associated funerary objects are present.

In 1915, human remains representing, at minimum, one individual were removed from the Dwelling site at the mouth of the Sequatchie Creek (40M12) in Marion County, TN. The human remains consist of an adult left humerus. The human remains were donated to the Army Medical Museum (National Museum of Health and Medicine) by Clarence B. Moore in May of 1915. No known individuals were identified. No associated funerary objects are present.

In 1915, human remains representing, at minimum, one individual were removed from the Dwelling site on Mason Island (1La92) in Limestone County, AL. The human remains consist of the left femur and right tibia of an adult male. The human remains were donated to the Army Medical Museum (National Museum of Health and Medicine) by Clarence B. Moore in May of 1915. No known individuals were identified. No associated funerary objects are present.

Determinations Made by the National Museum of Health and Medicine

Officials of the National Museum of Health and Medicine have determined that:

• Pursuant to 25 U.S.C. 3001(9), the human remains described in this notice are Native American based on: Osteological evidence, collection history, artifacts, and association with prehistoric archeological sites.

• Pursuant to 25 U.S.C. 3001(9), the human remains described in this notice represent the physical remains of four individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Cherokee Nation, Eastern Band of Cherokee Indians, The Chickasaw Nation, and United Keetoowah Band of Cherokee Indians in Oklahoma.

• Treaties, Acts of Congress, or Executive Orders, indicate that the land from which the Native American human remains were removed is the aboriginal land of the Cherokee Nation, Eastern Band of Cherokee Indians, The Chickasaw Nation, and United Keetoowah Band of Cherokee Indians in Oklahoma.

• Pursuant to 43 CFR 10.11(c)(1), the disposition of the human remains may be to the Cherokee Nation, Eastern Band of Cherokee Indians, The Chickasaw Nation, and United Keetoowah Band of Cherokee Indians in Oklahoma.

Additional Requestors and Disposition

Representatives of any Indian tribe or Native Hawaiian organization not identified in this notice that wish to request transfer of control of these human remains should submit a written request with information in support of the request to Mr. Brian F. Spatola, Curator of Anatomical Division, National Museum of Health and Medicine, U.S. Army Garrison Forest Glen, 2500 Linden Lane, Silver Spring, MD 20910, telephone (301) 319-3353, email brian.f.spatola.civ@mail.mil, by February 13, 2017. After that date, if no additional requestors have come forward, transfer of control of the human remains to the Cherokee Nation, Eastern Band of Cherokee Indians, The Chickasaw Nation, and United Keetoowah Band of Cherokee Indians in Oklahoma may proceed.

The National Museum of Health and Medicine is responsible for notifying the Cherokee Nation, Eastern Band of Cherokee Indians, The Chickasaw Nation, and United Keetoowah Band of Cherokee Indians in Oklahoma that this notice has been published.

Dated: December 20, 2016.
Melanie O'Brien,
Manager, National NAGPRA Program.

[FR Doc. 2017-00511 Filed 1-11-17; 8:45 am]

BILLING CODE 4312-52-P